ENVIRONMENTAL PROTECTION AGENCY

[ER-FRL-6252-5]

Environmental Impact Statements and Regulations; Availability of EPA Comments

Availability of EPA comments prepared March 6, 2000 Through March 10, 2000 pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 9, 1999 (63 FR 17856).

Draft EISs

ERP No. D-AFS-L65342-00 Rating EC2, Pacific Northwest Region Douglas-fir Tussock Moth (orgvia pseudotsugata) Project, To Partially Control an Anticipated Outbreak of Douglas-fir tussock moth, To be Implemented in Nine National Forests in WA and OH.

Summary

EPA expressed concerns about the EIS lacking a clear demonstration that defoliation by tussock moths would adversely affect the environment. EPA also urged that the EIS apply the protocol for addressing 303(d) waters, discuss further the IPM approach used, and describe the indicators that would trigger spraying.

ERP No. D-COE-G36151-TX Rating EC2, Programmatic EIS—Upper Trinity River Basin Feasibility Study, To Provide Flood Damage Reduction, Environmental Restoration, Water Quality Improvement and Recreational Enhancement, Trinity River, Dallas-Fort Worth Metroplex, Dallas, Denton and Tarrant Counties, TX.

Summary

EPA has environmental concerns about water quality. EPA requested additional information regarding optimum channel and lake morphology to ensure safe and recreational use compatible with water quality within the lakes. EPA also requested additional information regarding the Dallas Master Plan's compatibility with Floodplain Management requirements established by Executive Order 11988.

ERP No. D-NRS-A36450-00 Rating EC2, Programmatic EIS—Emergency Watershed Protection Program, Improvements and Expansion, To Preserve Life and Property Threatened by Disaster-Caused Erosion and Flooding, US 50 States and Territories except Coastal Area.

Summary

EPA expressed concern that the “Prioritized Watershed Planning and Management” alternative was not selected as the proposed action. EPA requested several modifications to the proposed program, including requirements for cumulative impact assessment and greater use of bioengineering principles when designing projects.

Final EISs

ERP No. F-AFS-J65314-MT, Flathead National Forest, Swan Lake Ranger District, Meadow Smith Project, Vegetative Treatments and Other Activities to Maintain and Restore Large-Tree Old Grow Forest Characteristics, Lake and Missoula Counties, MT.

Summary

EPA continues to express concern about the level of monitoring proposed to identify actual impacts from the implementation activities. EPA also requested additional mitigation measures to reduce other impacts.

ERP No. F-BLM-K67050-NV, South Pipeline Mine Project, Proposal to Extend Gold Mining Operations, Implementation, Lander County, NV.

Summary

EPA continues to express concern regarding air/water quality impacts and the ecological risk of pit lakes. EPA requested that BLM address these issues before the Record of Decision is signed.

ERP No. F-COE-C32035-00, New York and New Jersey Harbor Navigation Study, Identify, Screen and Select Navigation Channel Improvements, NY and NJ.

Summary

EPA's previous issues concerning the lack of a signed Memorandum of Understanding for the Comprehensive Port Improvement Plan (CPIP), the cumulative impacts analysis, and the no action alternative have been adequately addressed. EPA requested that air quality analyses be committed to in the Record of Decision for this project and completed prior to project implementation. EPA expressed concerns that until the CPIP is completed, impacts associated with port facility and infrastructure expansions will not have been addressed. EPA commented that a supplemental EIS for the Harbor Navigation Project may be required at some point in the future.

ERP No. F-DOE-G60007-NM, The Conveyance and Transfer of Certain Land Tracts Administered by the US DOE and Located at Los Alamos National Laboratory, Los Alamos and Santa Fe Counties, NM.

Summary

EPA has no objection to the action as proposed.

Dated: March 21, 2000.
B. Katherine Biggs,
Associate Director, NEPA Compliance Division Office of Federal Activities.

[FR Doc. 00-7348 Filed 3-23-00; 8:45 am]

BILLING CODE 6560-50-U